DEPARTMENT OF COMMERCE

National Oceanic and Atmospheric Administration

50 CFR Parts 223 and 224

RIN 0648-XT12

Endangered and Threatened Species; Proposed Rule To List 66 Reef-Building Coral Species; Proposed Reclassification of Elkhorn Acropora palmata and Staghorn Acropora cervicornis Under the Endangered Species Act (ESA); Extension of Public Comment Period and Notice of Public Hearing

AGENCY: National Marine Fisheries Service (NMFS), National Oceanic and Atmospheric Administration (NOAA), Commerce.

ACTION: Extension of public comment period; notice of public hearing.

SUMMARY: NMFS hereby extends the comment period on the proposed listing determinations of 66 reef-building coral species and the proposed reclassifications of elkhorn (Acropora palmata) and staghorn (Acropora cervicornis) corals under the ESA until April 6, 2013, and announces a public hearing to be held in Silver Spring, MD, on March 12, 2013.

DATES: Comments and information regarding this proposed rule must be received by April 6, 2013. The public hearing will be held on Tuesday, March 12, 2013, from 6 to 9 p.m. in Silver Spring, MD.

ADDRESSES: The March 12, 2013, hearing will be held at NOAA Headquarters, Building 4, NOAA Science Center, 1301 East-West Highway, Silver Spring, MD 20910.

You may submit comments, identified by NOAA-NMFS-2010-0036, by any of the following methods:

• Electronic submissions: Submit all electronic public comments via the Federal e-Rulemaking Portal. Go to www.regulations.gov/#!docketDetail;D=[NOAA-NMFS-2010-0036], click the “Comment Now!” icon, complete the required fields, and enter or attach your comments.

• Mail: Submit written comments to Regulatory Branch Chief, Protected Resources Division, National Marine Fisheries Service, Pacific Islands Regional Office, 1601 Kapiolani Blvd., Suite 1110, Honolulu, HI 96814; or Assistant Regional Administrator, Protected Resources, National Marine Fisheries Service, Southeast Regional Office, 263 13th Avenue South, Saint Petersburg, FL 33701, Attn: 82 coral species proposed listing.

• Fax: 808-973-2941; Attn: Protected Resources Regulatory Branch Chief; or 727-824-5309; Attn: Protected Resources Assistant Regional Administrator.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

You can obtain the petition and reference materials regarding this determination via the NMFS Pacific Island Regional Office Web site: http://www.fpir.noaa.gov/PRD/PRD_coral.html; NMFS Southeast Regional Office Web site: http://sero.nmfs.noaa.gov/pr/esa/82CoralSpecies.htm; NMFS HQ Web site: http://www.nmfs.noaa.gov/stories/2012/11/82corals.html; or by submitting a request to the Regulatory Branch Chief, Protected Resources Division, National Marine Fisheries Service, Pacific Islands Regional Office, 1601 Kapiolani Blvd., Suite 1110, Honolulu, HI 96814, Attn: 82 coral species.

FOR FURTHER INFORMATION CONTACT: Chelsey Young, NMFS, Pacific Islands Regional Office, 808-944-2137; Lance Smith, NMFS, Pacific Island Regional Office, 808-944-2258; Jennifer Moore, NMFS, Southeast Regional Office, 727-824-5312; or Marta Nammack, NMFS, Office of Protected Resources, 301-427-8469.

SUPPLEMENTARY INFORMATION:

Background

On December 7, 2012, we published a proposed rule in the Federal Register (77 FR 73219) in response to a petition submitted by the Center for Biological Diversity to list 83 reef-building coral species as threatened or endangered under the ESA. We concluded that 12 of the petitioned coral species warrant listing as endangered (5 Caribbean and 7 Indo-Pacific), 54 coral species warrant listing as threatened (2 Caribbean and 52 Indo-Pacific), and 16 coral species (all Indo-Pacific) do not warrant listing as threatened or endangered under the ESA. We also determined that two Caribbean coral species currently listed warrant reclassification from threatened to endangered.

We subsequently received requests to extend the public comment period for an additional 90 days. We have determined that an extension of 30 days, until April 6, 2013, making the full comment period 120 days, will allow adequate time for the public to thoroughly review and comment on the proposed rule while still providing the agency with sufficient time to meet our statutory deadlines.

Public Hearing

Joint Commerce-Interior ESA implementing regulations state that the Secretary shall promptly hold at least one public hearing if any person requests one within 45 days of publication of a proposed regulation to list a species or to designate critical habitat (see 50 CFR 424.16(c)(3)). We received a request for a public hearing to be held in the DC area. In addition to the 20 public hearings we held in Puerto Rico, the U.S. Virgin Islands, Florida, Hawaii, Guam, the Northern Mariana Islands, and American Samoa, we will hold an additional public hearing in Silver Spring, MD.

In past ESA rule-makings we have conducted traditional public hearings, consisting of recorded oral testimony from interested individuals. This format, although providing a means for public input, does not provide opportunities for dialogue and information exchange. We believe that the traditional public hearing format can be improved upon by also including a brief presentation on the results of the status review of 83 species of reef-building corals and other topics of interest.

The preferred means for providing public comment to the official record is via written testimony prepared in advance of the hearing which may also be presented orally. Blank “comment sheets” will be provided at the hearing for those without prepared written comments, and opportunity will also be provided for additional oral testimony. There is no need to register for this hearing.

In scheduling this additional public hearing, we have anticipated that many affected stakeholders and members of the public may prefer to discuss the proposed listing directly with staff during the public comment period. However, this public hearing is not the only opportunity for the public to provide input on this proposal. The public and stakeholders are encouraged to continue to comment and provide input to NMFS on the proposal (via the Federal e-Rulemaking Portal www.regulations.gov, correspondence, or fax; see ADDRESSES) up until the scheduled close of the comment period on April 6, 2013.

Authority: 16 U.S.C. 1531 et seq.

Dated: February 19, 2013.
Helen M. Golde,
Acting Director, Office of Protected Resources, National Marine Fisheries Service.

[FR Doc. 2013-04150 Filed 2-22-13; 8:45 am]

BILLING CODE 3510-22-P